DEPARTMENT OF TRANSPORTATION

Federal Aviation Administration

14 CFR Part 39

[Docket No. FAA-2005-22628; Directorate Identifier 2005-NM-056-AD; Amendment 39-14631; AD 2006-12-06]

RIN 2120-AA64

Airworthiness Directives; Boeing Model 737-300, -400, -500, -700, and -800 Series Airplanes; Model 747-400 and -400F Series Airplanes; Model 757-200 Series Airplanes; Model 767-300 Series Airplanes; and Model 777-300 Series Airplanes Equipped With Certain Driessen or Showa Galleys or Driessen Closets

AGENCY: Federal Aviation Administration (FAA), Department of Transportation (DOT).

ACTION: Final rule.

SUMMARY: The FAA is adopting a new airworthiness directive (AD) for certain Boeing transport category airplanes. This AD requires inspecting to determine if certain galleys and closets are installed, and replacing the spiral wire wrapping of the electrical cables of the galleys and closets with new spiral wire wrapping if necessary. This AD results from testing and reports from the manufacturer indicating unacceptable flammability properties of wire wrapping installed in certain galleys and closets. We are issuing this AD to prevent fire propagation or smoke in the cabin area due to electrical arcing or sparking and ignition of the spiral wire wrapping.

DATES: This AD becomes effective July 12, 2006.

The Director of the Federal Register approved the incorporation by reference of certain publications listed in the AD as of July 12, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Robert Kaufman, Aerospace Engineer, Cabin Safety and Environmental Systems Branch, ANM-150S, FAA, Seattle Aircraft Certification Office, 1601 Lind Avenue, SW., Renton, Washington 98055-4056; telephone (425) 917-6433; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing transport category airplanes. That NPRM was published in the Federal Register on October 7, 2005 (70 FR 58628). That NPRM proposed to require inspecting to determine if certain galleys and closets are installed, and replacing the spiral wire wrapping of the electrical cables of the galleys and closets with new spiral wire wrapping if necessary.

Comments

We provided the public the opportunity to participate in the development of this AD. We have considered the comments received.

Support for the NPRM

Four commenters, Northwest Airlines, Boeing, AirTran, and the Air Transport Association agree with the intent and contents of the NPRM.

Requests To Clarify the Applicability

Several commenters state that there are various problems interpreting the applicability of the NPRM. One commenter, Air Nippon, states that the effectivity in Boeing Special Attention Service Bulletin 737-25-1438, Revision 1, dated November 11, 2004, includes certain airplanes that are equipped with Showa galleys. However, the commenter further states that the galleys installed for these airplanes are not those referenced in Showa Aircraft Industry Service Bulletin 25-30-111, dated December 11, 2000, specifically part numbers 60216-1, 60217-1, and 60218-1. The commenter further points out that it has airplanes that have Showa galleys installed, but that those airplanes are not referenced in the Boeing service bulletin. The commenter states that it cannot proceed with the proposed actions because there is no Showa service bulletin issued for the Air Nippon airplanes. Air Nippon requests that we coordinate between both service bulletins to verify that there is consistency between the affected airplanes and the galleys installed on those airplanes. Air Nippon further states that a well-coordinated position is needed in order for it to comply with the AD.

Another commenter, Delta Airlines, states that it understands it must take action on all of its Boeing Model 767-300 airplanes (not just those listed in the Model 767's service bulletin). However, Delta states that with respect to the other service bulletins referenced in the NPRM (e.g., regarding Models 737-300, 737-800, and 757 airplanes), there are no Delta airplanes listed. The commenter states that it could be interpreted to mean that we do not need to review those other fleet types.

Yet another commenter, Alaska Airlines, points out that, although Driessen Aircraft Interior Systems Service Bulletin 25-442, Revision E, dated April 29, 2004, specifies the effectivity as “All galleys manufactured before May 2000,” the NPRM does not mention any difference between galleys manufactured before or after May 2000. The commenter states that it is not clear whether the AD applies to “any” galley having the part number specified in the Driessen service bulletin, or only to galleys manufactured before May 2000 that have the part number specified.

We do not agree that revision of the applicability of this AD is necessary. This AD does not specify the applicability of airplanes as identified in the effectivity section of any service bulletin specified in the NPRM. Since the AD identifies the airplane models it applies to in paragraph (c)(1) through (c)(5) inclusive of this AD, it means all of those airplanes that are equipped with certain Driessen Aircraft Interior Systems or Showa Aircraft Industry galleys. Identifying the applicability in this way precludes the necessity of revising the Boeing or vendor service bulletins (Showa or Driessen) to ensure that all airplanes are inspected. The actions required by this AD are not limited to the airplanes specified in certain Boeing service bulletins or to certain galleys manufactured before May 2000. After a specific line number within the Boeing production system, unacceptable spiral wire wrapping was removed and replaced with acceptable spiral wire wrapping. However, galleys can be removed and replaced with galleys other than the galleys installed at delivery of the airplane. Consequently, it is not possible to correlate the corrective action to specific airplane line numbers. Additionally, paragraph (g) of the AD clearly states that, if no galley is installed having any P/N identified in the service information specified in paragraph (f) of the AD, no further action is required.

Requests To Revise the “Costs of Compliance” Section of the NPRM

Two commenters, AirTran Airways and Northwest Airlines, note that certain costs specified in the Boeing service bulletins are not included in the NPRM. AirTran Airways specifies that labor costs for removal and replacement of the galley should be considered in the estimated cost of compliance. Northwest Airlines notes that one service bulletin's estimated work hours is 116 labor hours more than the NPRM's estimated work hours. Additionally, Northwest Airlines states that the estimate of two hours per galley seems to be low, and suggests that a better estimate to accomplish the work would be four hours per galley.

We do not agree that the “Costs of Compliance” section should be revised. The cost impact figures discussed in AD rulemaking actions represent only the time necessary to perform the specific actions actually required by the AD. We recognize that, in doing the actions required by an AD, operators may incur incidental costs in addition to the direct costs. The cost analysis in AD rulemaking actions, however, typically does not include incidental costs such as the time required to gain access and close up, time necessary for planning, or time necessitated by other administrative actions. Those incidental costs, which may vary significantly among operators, are almost impossible to calculate. Also, Northwest Airlines did not provide any justification as to why we should revise the number of hours estimated to remove and replace the spiral wrap from two to four. Therefore, we have determined that the estimate of two work hours based on the service bulletin is adequate. No change is necessary to the AD in this regard.

Request To Establish a Threshold for the Amount of Spiral Wrap Installed

One commenter, American Airlines, states that its fleet has less than 30 square inches of spiral wrap per airplane. Because of the small amount of material on these airplanes, American Airlines suggests that a maximum amount of material installed, such as 144 square inches, be set as the threshold for any required action. The commenter requests that no action be required for any airplanes with less spiral wrap installed than the threshold.

We do not agree with the commenter. The commenter provides no technical justification to support its suggestion that less than 144 square inches of material mitigates the unsafe condition. The amount of material the commenter suggests as an acceptable limit could potentially measure 16 linear feet, and that amount of material still has the ability to propagate a fire within the hidden area of the airplane. Therefore, we have determined that it is unnecessary to revise the AD in this regard. Under the provisions of paragraph (j)(1) of the final rule, we may approve requests for an alternative method of compliance if data are submitted to substantiate that such an adjustment would provide an acceptable level of safety.

Request To Reference New Service Bulletin

One commenter, Northwest Airlines, states that the effectivity for certain airplanes specified in the Driessen Aircraft Interior Systems service bulletin is in error. The commenter also explains that the company is aware of the error in the service bulletin and is in the process of correcting the associated descriptions for each galley part number. The commenter requests that we reference the new corrected service bulletin in the AD.

We do not agree with the commenter. During discussions with Driessen Aircraft Interior Systems, we were advised that there are no plans for updating the descriptions for these galleys. However, we do not consider that revision of the Driessen service bulletin is necessary in this case in order for operators to comply with the AD. Since the part numbers defined with the service bulletin are correct, it is only the description of the galley that could be expanded. In consideration of the flammability of the existing spiral wrap, we have determined that it would be inappropriate to delay issuance of this AD until a new service bulletin has been developed and approved. However, once the service bulletin is approved and available, the commenter may request approval of an AMOC in accordance with paragraph (j)(1) of this AD. No change to the AD is necessary in this regard.

Request To Specify Affected Part Numbers in the NPRM

One commenter, AirTran Airways, requests that we specify the affected part numbers in the NPRM. Although AirTran states that the NPRM does not affect any of its airplanes, it suggests that specifying part numbers could benefit operators.

In this case, we do not agree to specify the part numbers in the AD, since the affected part numbers are clearly specified in the referenced service information. Not only would it appear to be redundant to repeat the part numbers in the AD, but when there are large numbers of parts involved, it could increase the risk of error in repeating those part numbers in the AD.

Request To Clarify “Maintenance Record Check of the Airplane”

One commenter, Delta Airlines, requests that the FAA clarify or expand the statement “maintenance record check of the airplane.” Delta suggests that, rather than a search through maintenance records, a review of installation drawings, internal Engineering Authorizations, the Illustrated Parts Catalog, and other such documents would also provide a clear picture of which galleys/closets are installed.

We do not agree with the commenter that it is necessary to expand the definition of “airplane maintenance records.” The NPRM uses the phrase “airplane maintenance records,” because that is consistent with the wording of section 121.380 (“Maintenance Recording Requirements”) of the Federal Aviation Regulations (14 CFR 121.380). That regulation defines the maintenance recording requirements for certificate holders. The term, as specified in the NPRM, is not meant to imply that determination of the installed component used must be determined from the airplane-level document, but rather the explanation as specified in section 121.380 of the Federal Aviation Regulations (14 CFR 121.380). Examples of other such supporting documents include maintenance program documentation and maintenance task cards. Therefore, we find that it is unnecessary to revise the AD in this regard.

Clarification of Alternative Method of Compliance (AMOC) Paragraph

We have revised this AD to clarify the appropriate procedure for notifying the principal inspector before using any approved AMOC on any airplane to which the AMOC applies.

Conclusion

We have carefully reviewed the available data, including the comments received, and determined that air safety and the public interest require adopting the AD with the single clarification described previously. We have determined that this clarification will neither increase the economic burden on any operator nor increase the scope of the AD.

Costs of Compliance

There are about 5,177 airplanes of the affected design in the worldwide fleet. This AD will affect about 2,621 airplanes of U.S. registry. The inspection to determine part numbers of the galleys will take about 1 work hour per galley, at an average labor rate of $65 per work hour. Some airplanes have only one galley and some have up to 11 galleys. With the exception of Boeing Model 777-300 airplanes, we estimate the cost of the inspection in this AD for U.S. operators to be between $65 and $715 per airplane.

If an operator is required to replace the spiral protective wrapping of the electrical cables of the galley, we estimate that cost will be as follows:

1. For Driessen galleys: About two work hours per galley, at an average labor rate of $65 per work hour, and the cost for the new spiral protective wrapping to be about $1,450, per galley. The estimated total cost will be about $1,580, per galley.

2. For Showa galleys: About 20 work hours per galley, at an average labor rate of $65 per work hour, and the cost of the new spiral protective wrapping to be about $1,550, per galley. The estimated total cost will be about $2,850, per galley.

Currently, there are no Boeing Model 777-300 airplanes with the subject galleys on the U.S. Register. However, if a Model 777-300 is imported and placed on the U.S. Register in the future, the required actions will take about 1 work hour per galley, at an average labor rate of $65 per work hour.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-06 Boeing: Amendment 39-14631. Docket No. FAA-2005-22628; Directorate Identifier 2005-NM-056-AD.

Effective Date

(a) This AD becomes effective July 12, 2006.

Affected ADs

(b) None.

Applicability

(c) This AD applies to Boeing transport category airplanes equipped with certain Driessen Aircraft Interior Systems or Showa Aircraft Industries galleys, certificated in any category; as identified in paragraphs (c)(1) through (c)(5) inclusive of this AD.

(1) Model 737-300, -400, -500, -700, and -800 series airplanes;

(2) Model 747-400 and 747-400F series airplanes;

(3) Model 757-200 series airplanes;

(4) Model 767-300 series airplanes; and

(5) Model 777-300 series airplanes.

Unsafe Condition

(d) This AD results from testing and reports from the manufacturer indicating unacceptable flammability properties of wire wrapping installed in certain galleys and closets. We are issuing this AD to prevent fire propagation or smoke in the cabin area due to electrical arcing or sparking and ignition of the spiral wire wrapping.

Compliance

(e) You are responsible for having the actions required by this AD performed within the compliance times specified, unless the actions have already been done.

Note 1: For clarification and for the purposes of this AD, the use of the term “galley” also includes the terms “buffet” and “closet” that are referenced in certain service information specified in this AD.

Determination of Part Installation

(f) Within 72 months after the effective date of this AD, inspect the galleys to determine if any of the part numbers (P/Ns) installed are identified in the applicable service information specified in Table 1 of this AD. Instead of inspecting the galleys to determine if the P/Ns are installed, a review of airplane maintenance records is acceptable if the P/Ns can be positively determined from that review.

Table 1.—Service Bulletins and Special Attention Service Bulletins
Model and service information | Revision level | Date
(1) Boeing Special Attention Service Bulletin 737-25-1438, for Model 737-300, -400, and -500 series airplanes | 1 | November 11, 2004.
(2) Boeing Service Bulletin 737-25-1439, for Model 737-700 and -800 series airplanes | 3 | November 11, 2004.
(3) Boeing Special Attention Service Bulletin 747-25-3264, for Model 747-400 series airplanes | 1 | November 11, 2004.
(4) Boeing Service Bulletin 747-25-3275, for Model 747-400F series airplanes | 1 | April 4, 2002.
(5) Boeing Special Attention 757-25-0238, for Model 757-200 series airplanes | 2 | November 11, 2004.
(6) Boeing Special Attention Service Bulletin 767-25-0297, for Model 767-300 series airplanes | 1 | November 11, 2004.
(7) Boeing Special Attention Service Bulletin 1 November 777-25-0180 for Model 777-300 series airplanes | 1 | November 11, 2004.

Note 2: The service bulletins and special attention service bulletins specified in Table 1 of this AD reference Driessen Aircraft Interior Systems Service Bulletin 25-442, Revision E, dated April 29, 2004; and Showa Aircraft Industry Service Bulletin 25-30-111, dated December 11, 2000; as applicable; as additional sources of service information.

If Certain Galleys Are Not Installed

(g) If no galley is installed having any P/N identified in the service information specified in paragraph (f) of this AD, no further action is required by this AD.

If Certain Galleys Are Installed

(h) If any galley is installed having any P/N identified in the service information specified in paragraph (f) of this AD: Within 72 months after the effective date of this AD, replace the spiral protective wrapping of the electrical cables of the galley with new spiral protective wrapping that has been shown to meet certain flammability testing requirements, in accordance with the applicable service information specified in paragraph (f) of this AD.

Credit for Previous Replacement

(i) Replacement of the spiral protective wrapping of the electrical cables of any galley with new spiral protective wrapping that has been shown to meet certain flammability testing requirements, in accordance with the service information listed in the Table 2 of this AD, prior to the effective date of this AD, is acceptable for compliance with the requirements of paragraph (h) of this AD.

Table 2.—Previous Accomplishment
Boeing service information | Revision level | Date
(1) Special Attention Service Bulletin 737-25-1438 | Original | March 15, 2001.
(2) Special Attention Service Bulletin 737-25-1439 | Original | March 15, 2001.
(3) Special Attention Service Bulletin 737-25-1439 | 1 | August 2, 2001.
(4) Service Bulletin 737-25-1439 | 2 | December 19, 2001.
(5) Special Attention Service Bulletin 747-25-3264 | Original | March 15, 2001.
(6) Special Attention Service Bulletin 747-25-3275 | Original | March 15, 2001.
(7) Special Attention Service Bulletin 757-25-0238 | Original | March 15, 2001.
(8) Special Attention Service Bulletin 757-25-0238 | 1 | November 15, 2001.
(9) Special Attention Service Bulletin 767-25-0297 | Original | March 15, 2001.
(10) Special Attention Service Bulletin 777-25-0180 | Original | March 15, 2001.

Alternative Methods of Compliance (AMOCs)

(j)(1) The Manager, Seattle Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(k) You must use the applicable service information in Table 3 of this AD to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Material Incorporated by Reference
Service information | Revision level | Date
(1) Boeing Special Attention Service Bulletin 737-25-1438 | 1 | November 11, 2004.
(2) Boeing Service Bulletin 737-25-1439 | 3 | November 11, 2004.
(3) Boeing Special Attention Service Bulletin 747-25-3264 | 1 | November 11, 2004.
(4) Boeing Service Bulletin 747-25-3275 | 1 | April 4, 2002.
(5) Boeing Special Attention Service Bulletin 757-25-0238 | 2 | November 11, 2004.
(6) Boeing Special Attention Service Bulletin 767-25-0297 | 1 | November 11, 2004.
(7) Boeing Special Attention Service Bulletin 777-25-0180 | 1 | November 11, 2004.

Issued in Renton, Washington, on May 30, 2006.
Jeffrey E. Duven,
Acting Manager, Transport Airplane Directorate, Aircraft Certification Service.

[FR Doc. 06-5120 Filed 6-6-06; 8:45 am]

BILLING CODE 4910-13-P